ENVIRONMENTAL PROTECTION AGENCY

[ER-FRL-9057-7]

Environmental Impact Statements; Notice of Availability

Responsible Agency: Office of Federal Activities, General Information 202-564-5632 or https://www.epa.gov/nepa.

Weekly receipt of Environmental Impact Statements (EIS)

Filed July 26, 2021 10 a.m. EST Through August 2, 2021 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20210104, Draft, FERC, LA, Alberta Xpress and Lease Capacity Abandonment Projects, Comment Period Ends: 09/20/2021, Contact: Office of External Affairs 866-208-3372.

EIS No. 20210105, Final, USACE, LA, West Bank and Vicinity, Louisiana General Re-Evaluation Report with Integrated Environmental Impact Statement, Review Period Ends: 09/07/2021, Contact: Bradley Drouant 504-862-1516.

EIS No. 20210106, Final, USACE, LA, Lake Pontchartrain and Vicinity, Louisiana General Re-Evaluation Report with Integrated Environmental Impact Statement, Review Period Ends: 09/07/2021, Contact: Bradley Drouant 504-862-1516.

EIS No. 20210107, Draft, BLM, ID, Cedar Fields Plan Amendment Draft EIS for the Monument Resource Management Plan, Comment Period Ends: 11/10/2021, Contact: Lisa Cresswell 208-732-7270.

EIS No. 20210108, Draft, NRC, SC, License Renewal of the Columbia Fuel Fabrication Facility in Richland County, South Carolina, Comment Period Ends: 09/20/2021, Contact: Diana Diaz-Toro 301-415-0930.

EIS No. 20210109, Final, STB, UT, Uinta Basin Railway, Review Period Ends: 09/07/2021, Contact: Joshua Wayland 202-245-0330.

EIS No. 20210110, Final, BLM, NV, Robinson Mine Plan of Operations Amendment, Review Period Ends: 09/07/2021, Contact: Tiera Arbogast 775-293-5042.

EIS No. 20210111, Final, USA, MD, Davison Army Airfield Area Development Plan, Review Period Ends: 09/07/2021, Contact: Denean Summers 210-466-1313.

EIS No. 20210112, Draft, USFS, NM, Lincoln National Forest Draft Land Management Plan: Chaves, Eddy, Lincoln, and Otero Counties, New Mexico, Comment Period Ends: 11/05/2021, Contact: Diane Prather 575-649-9405.

Dated: August 2, 2021.
Candi Schaedle,
Acting Director, NEPA Compliance Division, Office of Federal Activities.

[FR Doc. 2021-16798 Filed 8-5-21; 8:45 am]

BILLING CODE 6560-50-P